DEPARTMENT OF TRANSPORTATION

Federal Motor Carrier Safety Administration

[Docket No. FMCSA-2012-0294;FMCSA-2013-0443; FMCSA-2013-0444; FMCSA-2014-0212; FMCSA-2014-0213; FMCSA-2014-0382; FMCSA-2015-0321; FMCSA-2015-0323; FMCSA-2018-0028; FMCSA-2018-0050; FMCSA-2018-0051; FMCSA-2018-0052; FMCSA-2018-0054; FMCSA-2019-0034; FMCSA-2020-0046; FMCSA-2020-0049; FMCSA-2020-0050]

Qualification of Drivers; Exemption Applications; Epilepsy and Seizure Disorders

AGENCY: Federal Motor Carrier Safety Administration (FMCSA), Department of Transportation (DOT).

ACTION: Notice of renewal of exemptions; request for comments.

SUMMARY: FMCSA announces its decision to renew exemptions for 28 individuals from the requirement in the Federal Motor Carrier Safety Regulations (FMCSRs) that interstate commercial motor vehicle (CMV) drivers have “no established medical history or clinical diagnosis of epilepsy or any other condition which is likely to cause loss of consciousness or any loss of ability to control a CMV.” The exemptions enable these individuals who have had one or more seizures and are taking anti-seizure medication to continue to operate CMVs in interstate commerce.

DATES: The exemptions are applicable on October 24, 2022. The exemptions expire on October 24, 2024. Comments must be received on or before February 6, 2023.

ADDRESSES: You may submit comments identified by the Federal Docket Management System Docket No. FMCSA-2012-0294, Docket No. FMCSA-2013-0443, Docket No. FMCSA-2013-0444, Docket No. FMCSA-2014-0212, Docket No. FMCSA-2014-0213, Docket No. FMCSA-2014-0382, Docket No. FMCSA-2015-0321, Docket No. FMCSA-2015-0323, Docket No. FMCSA-2018-0028, Docket No. FMCSA-2018-0050, Docket No. FMCSA-2018-0051, Docket No. FMCSA-2018-0052, Docket No. FMCSA-2018-0054, Docket No. FMCSA-2019-0034, Docket No. FMCSA-2020-0046, Docket No. FMCSA-2020-0049, or Docket No. FMCSA-2020-0050 using any of the following methods:

• Federal eRulemaking Portal: Go to www.regulations.gov/, insert the docket number, FMCSA-2012-0294, FMCSA-2013-0443, FMCSA-2013-0444, FMCSA-2014-0212, FMCSA-2014-0213, FMCSA-2014-0382, FMCSA-2015-0321, FMCSA-2015-0323, FMCSA-2018-0028, FMCSA-2018-0050, FMCSA-2018-0051, FMCSA-2018-0052, FMCSA-2018-0054, FMCSA-2019-0034, FMCSA-2020-0046, FMCSA-2020-0049, or FMCSA-2020-0050 in the keyword box, and click “Search.” Next, sort the results by “Posted (Newer-Older),” choose the first notice listed, and click on the “Comment” button. Follow the online instructions for submitting comments.

• Mail: Dockets Operations; U.S. Department of Transportation, 1200 New Jersey Avenue SE, West Building Ground Floor, Room W12-140, Washington, DC 20590-0001.

• Hand Delivery: West Building Ground Floor, Room W12-140, 1200 New Jersey Avenue SE, Washington, DC 20590-0001 between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, DOT, 1200 New Jersey Avenue SE, Room W64-224, Washington, DC 20590-0001. Office hours are from 8:30 a.m. to 5 p.m., ET, Monday through Friday, except Federal holidays. If you have questions regarding viewing or submitting material to the docket, contact Dockets Operations, (202) 366-9826.

SUPPLEMENTARY INFORMATION:

I. Public Participation

A. Submitting Comments

If you submit a comment, please include the docket number for this notice (Docket No. FMCSA-2012-0294, Docket No. FMCSA-2013-0443, Docket No. FMCSA-2013-0444, Docket No. FMCSA-2014-0212, Docket No. FMCSA-2014-0213, Docket No. FMCSA-2014-0382, Docket No. FMCSA-2015-0321, Docket No. FMCSA-2015-0323, Docket No. FMCSA-2018-0028, Docket No. FMCSA-2018-0050, Docket No. FMCSA-2018-0051, Docket No. FMCSA-2018-0052, Docket No. FMCSA-2018-0054, Docket No. FMCSA-2019-0034, Docket No. FMCSA-2020-0046, Docket No. FMCSA-2020-0049, or Docket No. FMCSA-2020-0050), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to www.regulations.gov/, insert the docket number, FMCSA-2012-0294, FMCSA-2013-0443, FMCSA-2013-0444, FMCSA-2014-0212, FMCSA-2014-0213, FMCSA-2014-0382, FMCSA-2015-0321, FMCSA-2015-0323, FMCSA-2018-0028, FMCSA-2018-0050, FMCSA-2018-0051, FMCSA-2018-0052, FMCSA-2018-0054, FMCSA-2019-0034, FMCSA-2020-0046, FMCSA-2020-0049, or FMCSA-2020-0050 in the keyword box, and click “Search.” Next, sort the results by “Posted (Newer-Older),” choose the first notice listed, click the “Comment” button, and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Comments

To view comments go to www.regulations.gov. Insert the docket number, FMCSA-2012-0294, FMCSA-2013-0443, FMCSA-2013-0444, FMCSA-2014-0212, FMCSA-2014-0213, FMCSA-2014-0382, FMCSA-2015-0321, FMCSA-2015-0323, FMCSA-2018-0028, FMCSA-2018-0050, FMCSA-2018-0051, FMCSA-2018-0052, FMCSA-2018-0054, FMCSA-2019-0034, FMCSA-2020-0046, FMCSA-2020-0049, or FMCSA-2020-0050 in the keyword box, and click “Search.” Next, sort the results by “Posted (Newer-Older),” choose the first notice listed, and click “Browse Comments.” If you do not have access to the internet, you may view the docket online by visiting Dockets Operations in Room W12-140 on the ground floor of the DOT West Building, 1200 New Jersey Avenue SE, Washington, DC 20590-0001, between 9 a.m. and 5 p.m., ET, Monday through Friday, except Federal holidays. To be sure someone is there to help you, please call (202) 366-9317 or (202) 366-9826 before visiting Dockets Operations.

C. Privacy Act

In accordance with 49 U.S.C. 31315(b)(6), DOT solicits comments from the public on the exemption request. DOT posts these comments, without edit, including any personal information the commenter provides, to www.regulations.gov. As described in the system of records notice (DOT/ALL-14 FDMS), which can be reviewed at www.dot.gov/privacy, the comments are searchable by the name of the submitter.

II. Background

Under 49 U.S.C. 31136(e) and 31315(b), FMCSA may grant an exemption from the FMCSRs for no longer than a 5-year period if it finds such exemption would likely achieve a level of safety that is equivalent to, or greater than, the level that would be achieved absent such exemption. The statute also allows the Agency to renew exemptions at the end of the 5-year period. FMCSA grants medical exemptions from the FMCSRs for a 2-year period to align with the maximum duration of a driver's medical certification.

The physical qualification standard for drivers regarding epilepsy found in 49 CFR 391.41(b)(8) states that a person is physically qualified to drive a CMV if that person has no established medical history or clinical diagnosis of epilepsy or any other condition which is likely to cause the loss of consciousness or any loss of ability to control a CMV.

In addition to the regulations, FMCSA has published advisory criteria ¹ to assist Medical Examiners in determining whether drivers with certain medical conditions are qualified to operate a CMV in interstate commerce.

¹ These criteria may be found in APPENDIX A TO PART 391—MEDICAL ADVISORY CRITERIA, section H. Epilepsy: § 391.41(b)(8), paragraphs 3, 4, and 5, which is available on the internet at https://www.gpo.gov/fdsys/pkg/CFR-2015-title49-vol5/pdf/CFR-2015-title49-vol5-part391-appA.pdf.

The 28 individuals listed in this notice have requested renewal of their exemptions from the epilepsy and seizure disorders prohibition in § 391.41(b)(8), in accordance with FMCSA procedures. Accordingly, FMCSA has evaluated these applications for renewal on their merits and decided to extend each exemption for a renewable 2-year period.

III. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315(b), FMCSA will take immediate steps to revoke the exemption of a driver.

IV. Basis for Renewing Exemptions

In accordance with 49 U.S.C. 31136(e) and 31315(b), each of the 28 applicants has satisfied the renewal conditions for obtaining an exemption from the epilepsy and seizure disorders prohibition. The 28 drivers in this notice remain in good standing with the Agency, have maintained their medical monitoring and have not exhibited any medical issues that would compromise their ability to safely operate a CMV during the previous 2-year exemption period. In addition, for commercial driver's license (CDL) holders, the Commercial Driver's License Information System and the Motor Carrier Management Information System are searched for crash and violation data. For non-CDL holders, the Agency reviews the driving records from the State Driver's Licensing Agency. These factors provide an adequate basis for predicting each driver's ability to continue to safely operate a CMV in interstate commerce. Therefore, FMCSA concludes that extending the exemption for each renewal applicant for a period of 2 years is likely to achieve a level of safety equal to that existing without the exemption.

As of October 24, 2022, and in accordance with 49 U.S.C. 31136(e) and 31315(b), the following 28 individuals have satisfied the renewal conditions for obtaining an exemption from the epilepsy and seizure disorders prohibition in the FMCSRs for interstate CMV drivers:

Lee Anderson (MA)

Jay Asack (MA)

Peter Bender (MN)

Kenneth Boglia (NC)

Jeremy Bradford (AL)

Brian Duncan (IL)

Steven Ford (WI)

Terry Hamby (NC)

Eric Hilmer (WI)

Clint Honea (AL)

Gerald Klein, Jr. (ID)

Thomas Kline (PA)

James Klucas (KS)

Jeffrey Kuper (IL)

Jeffrey T. Lang (PA)

Jose Lara-Ramirez (NV)

Ty Martin (WV)

Roland Mezger (PA)

Troy Nichols (TX)

Domenick Panfile (NJ)

Nicholas Ramirez (CA)

Michael Ranalli (PA)

Bryan Sheehan (FL)

Matthew Staley (CO)

Joshua Thomas (MN)

Robert Thomas, Jr. (NC)

Peter Thompson (FL)

Trever Williams (MN)

The drivers were included in docket number FMCSA-2012-0294, FMCSA-2013-0443, FMCSA-2013-0444, FMCSA-2014-0212, FMCSA-2014-0213, FMCSA-2014-0382, FMCSA-2015-0321, FMCSA-2015-0323, FMCSA-2018-0028, FMCSA-2018-0050, FMCSA-2018-0051, FMCSA-2018-0052, FMCSA-2018-0054, FMCSA-2019-0034, FMCSA-2020-0046, FMCSA-2020-0049, or FMCSA-2020-0050. Their exemptions are applicable as of October 24, 2022 and will expire on October 24, 2024.

V. Conditions and Requirements

The exemptions are extended subject to the following conditions: (1) each driver must remain seizure-free and maintain a stable treatment during the 2-year exemption period; (2) each driver must submit annual reports from their treating physicians attesting to the stability of treatment and that the driver has remained seizure-free; (3) each driver must undergo an annual medical examination by a certified ME, as defined by § 390.5; and (4) each driver must provide a copy of the annual medical certification to the employer for retention in the driver's qualification file, or keep a copy of his/her driver's qualification file if he/she is self-employed. The driver must also have a copy of the exemption when driving, for presentation to a duly authorized Federal, State, or local enforcement official. The exemption will be rescinded if: (1) the person fails to comply with the terms and conditions of the exemption; (2) the exemption has resulted in a lower level of safety than was maintained before it was granted; or (3) continuation of the exemption would not be consistent with the goals and objectives of 49 U.S.C. 31136(e) and 31315(b).

VI. Preemption

During the period the exemption is in effect, no State shall enforce any law or regulation that conflicts with this exemption with respect to a person operating under the exemption.

VII. Conclusion

Based on its evaluation of the 28 exemption applications, FMCSA renews the exemptions of the aforementioned drivers from the epilepsy and seizure disorders prohibition in § 391.41(b)(8). In accordance with 49 U.S.C. 31136(e) and 31315(b), each exemption will be valid for 2 years unless revoked earlier by FMCSA.

Larry W. Minor,
Associate Administrator for Policy.

[FR Doc. 2022-28608 Filed 1-4-23; 8:45 am]

BILLING CODE 4910-EX-P